DEPARTMENT OF ENERGY

Federal Energy Regulatory Commission

Combined Notice of Filings #1

Take notice that the Commission received the following electric rate filings:

Docket Numbers: ER13-343-008; ER16-701-001; ER13-342-012; ER16-700-001.

Applicants: CPV Maryland, LLC, CPV Valley, LLC, CPV Shore, LLC, CPV Towantic, LLC.

Description: Amendment to July 23, 2017 Amendment to Market Power Update of CPV Maryland, LLC, et al.

Filed Date: 8/7/18.

Accession Number: 20180807-5162.

Comments Due: 5 p.m. ET 8/28/18.

Docket Numbers: ER18-1743-001.

Applicants: New York Independent System Operator, Inc.

Description: Tariff Amendment: NYISO response to deficiency letter on Alternate LCR to be effective 10/9/2018.

Filed Date: 8/9/18.

Accession Number: 20180809-5098.

Comments Due: 5 p.m. ET 8/30/18.

Docket Numbers: ER18-1872-002.

Applicants: Southwest Power Pool, Inc.

Description: Tariff Amendment: 1636R21 Kansas Electric Power Cooperative, Inc. NITSA and NOA to be effective 9/1/2018.

Filed Date: 8/8/18.

Accession Number: 20180808-5123.

Comments Due: 5 p.m. ET 8/29/18.

Docket Numbers: ER18-2188-000.

Applicants: PJM Interconnection, L.L.C.

Description: § 205(d) Rate Filing: Original Cost Responsibility Agreement, Service Agreement No. 5157, NQ162 to be effective 7/10/2018.

Filed Date: 8/9/18.

Accession Number: 20180809-5048.

Comments Due: 5 p.m. ET 8/30/18.

Docket Numbers: ER18-2189-000.

Applicants: Sanford Energy Associates, LLC.

Description: Baseline eTariff Filing: Application for Market-Based Rate Authority to be effective 8/10/2018.

Filed Date: 8/9/18.

Accession Number: 20180809-5051.

Comments Due: 5 p.m. ET 8/30/18.

Docket Numbers: ER18-2190-000.

Applicants: Arizona Public Service Company.

Description: § 205(d) Rate Filing: Rate Schedule No. 274—Notice of Succession of Black Hills Colorado Electric to be effective 7/10/2018.

Filed Date: 8/9/18.

Accession Number: 20180809-5053.

Comments Due: 5 p.m. ET 8/30/18.

Docket Numbers: ER18-2191-000.

Applicants: American Transmission Systems, Incorporated, PJM Interconnection, L.L.C.

Description: § 205(d) Rate Filing: ATSI submits eight ECSAs, Service Agreement Nos. 4892, 4967, 4979, 4980, et al to be effective 10/9/2018.

Filed Date: 8/9/18.

Accession Number: 20180809-5055.

Comments Due: 5 p.m. ET 8/30/18.

Docket Numbers: ER18-2192-000.

Applicants: PJM Interconnection, L.L.C.

Description: § 205(d) Rate Filing: Original ISA, Service Agreement No. 4592, Non-queue No. NQ144 to be effective 7/12/2018.

Filed Date: 8/9/18.

Accession Number: 20180809-5065.

Comments Due: 5 p.m. ET 8/30/18.

Docket Numbers: ER18-2193-000.

Applicants: Public Service Company of Colorado.

Description: § 205(d) Rate Filing: 20180809_Joint Dispatch Service Agreement Notice of Succession of Black Hills to be effective 7/10/2018.

Filed Date: 8/9/18.

Accession Number: 20180809-5093.

Comments Due: 5 p.m. ET 8/30/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 9, 2018.
Nathaniel J. Davis, Sr.,
Deputy Secretary.

[FR Doc. 2018-17540 Filed 8-14-18; 8:45 am]

BILLING CODE 6717-01-P